SECURITIES AND EXCHANGE COMMISSION

Sunshine Act Meetings

TIME AND DATE: Notice is hereby given, pursuant to the provisions of the Government in the Sunshine Act, Public Law 94-409, that the Securities and Exchange Commission (“Commission”) staff will hold a municipal securities disclosure conference titled “Spotlight on Transparency: A Discussion of Secondary Market Municipal Securities Disclosure Practices,” on March 10, 2020, beginning at 9:30 a.m. ET.

PLACE: The event will be held in the Auditorium, L-002, at the Commission's headquarters, 100 F Street NE, Washington, DC 20549. The event's panel discussions will be webcast on the Commission's website at www.sec.gov.

STATUS: The conference will begin at 9:30 a.m. ET and will be open to the public. Seating will be on a first-come, first-served basis. Doors will open at 8:00 a.m. ET. Visitors will be subject to security checks.

MATTERS TO BE CONSIDERED: This Sunshine Act notice is being issued because a majority of the Commission may attend the conference. The agenda for the conference will comprise topics related to municipal securities disclosure. Panelists will include industry experts, regulators, and issuers. Panelists are invited to discuss topics such as voluntary secondary market disclosure practices of municipal issuers and obligated persons, buy-side perspectives on secondary market disclosure in the municipal securities market, the recent amendments to Exchange Act Rule 15c2-12, and emerging disclosure topics in the secondary market for municipal securities.

CONTACT PERSON FOR MORE INFORMATION: For further information, please contact Vanessa A. Countryman from the Office of the Secretary at (202) 551-5400.

Dated: March 3, 2020.
Vanessa A. Countryman,
Secretary.

[FR Doc. 2020-04636 Filed 3-3-20; 4:15 pm]

BILLING CODE 8011-01-P